NATIONAL CREDIT UNION ADMINISTRATION

Notice of Meeting; Sunshine Act

Time and Date: 10 a.m., Thursday, April 18, 2002.

Place: Board Room, 7th Floor, Room 7047, 1775 Duke Street, Alexandria, VA 22314-3428.

Status: Open.

Matters to be Considered: 1. Quarterly Insurance Fund Report.

2. Request from a Federal Credit Union to Expand its Community Charter.

3. Final Rule: Interpretative Ruling and Policy Statement (IRPS) 02-1, Chartering and Field of Membership Policy.

4. Request from a Corporate Credit Union for Federal Share Insurance.

Recess: 11:15 a.m.

Time and Date: 11:30 a.m., Thursday, April 18, 2002.

Place: Board Room, 7th Floor, Room 7047, 1775 Duke Street, Alexandria, VA 22314-3428.

Status: Closed.

Matters to be Considered: 1. Administrative Action Under Section 206 of the Federal Credit Union Act. Closed pursuant to Exemptions (8), (9)(A)(ii), and (9)(B).

2. Two (2) Administrative Actions under Part 704 of NCUA's Rules and Regulations. Closed pursuant to Exemption (8).

FOR FURTHER INFORMATION CONTACT: Becky Baker, Secretary of the Board, Telephone 703-518-6304.

Becky Baker,
Secretary of the Board.

[FR Doc. 02-9214 Filed 4-11-02; 2:17 pm]

BILLING CODE 7535-01-M